DEPARTMENT OF TRANSPORTATION

Federal Aviation Administration

Agency Information Collection Activities: Requests for Comments; Clearance of Reinstate Approval of Information Collection: Aviation Insurance

AGENCY: Federal Aviation Administration (FAA), DOT.

ACTION: Notice and request for comments.

SUMMARY: In accordance with the Paperwork Reduction Act of 1995, FAA invites public comments about our intention to request the Office of Management and Budget (OMB) approval to reinstate an information collection. The collection involves obtaining basic information from new aviation insurance applicants about eligible aviation insurance applicants needed to establish a legally binding, non-premium insurance policy with the FAA, as requested by another Federal agency, such as the applicants name and address, and the aircraft to be covered by the policy. The information collected will be used to determine whether applicants are eligible for Chapter 443 insurance and the amount of coverage necessary; populate non-premium insurance policies with the legal name and address; and meet conditions of coverage required by each insurance policy.

As a condition of coverage, air carriers will be required to submit any changes to the basic information initially submitted on the application, as necessary. Air carrier's will also be responsible for providing a copy of their current commercial insurance policy on an ongoing basis, and aircraft registration and serial numbers for any new aircraft the air carrier would like to add to the policy. This information will form part of a legally binding agreement (i.e. insurance policy) between the FAA and air carrier. Failure to provide this updated information could result in lack or denial of coverage.

DATES: Written comments should be submitted by August 6, 2018.

ADDRESSES: Send comments to the FAA at the following address: Barbara Hall, Federal Aviation Administration, ASP-110, 10101 Hillwood Parkway, Fort Worth, TX 76177

FOR FURTHER INFORMATION CONTACT: Barbara Hall by email at: Barbara.L.Hall@faa.gov; phone: 940-594-5913.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0514.

Title: Aviation Insurance.

Form Numbers: 2120-0514.

Type of Review: Reinstate an information collection.

Background: Title 49 U.S.C. 44305 authorizes the Administrator of the Federal Aviation Administration, acting pursuant to a delegation of authority from the Secretary of Transportation, to provide aviation insurance at the request of another Federal agency, without premium, provided that the head of the Federal agency agrees to indemnify the FAA from loss.

The FAA Non-Premium Aviation War Risk Insurance Program offers war risk coverage, without premium, to air carriers at the request of DoD and other Federal agencies. DoD and other Federal agencies rely on the FAA to provide aviation war risk insurance to contracted air carriers supporting mission objectives and operations that is not available commercially on reasonable terms and conditions. Air carriers never insured under the FAA Non-Premium War Risk Insurance Program must submit an application before the FAA can provide coverage.

Respondents: The FAA currently insure 31 U.S. air carriers through its Non-Premium Aviation Insurance Program at the request of other Federal agencies. We estimate the addition of one new air carrier to the program each year. In addition, air carriers insured will be required to provide and update information on an ongoing basis as a condition of insurance coverage and to remain eligible for insurance policy renewals.

Frequency: The initial application for insurance is required only from air carriers that have not previously received aviation insurance from the FAA. We estimate one new air carrier will need to submit an application annually; 6 insured air carriers will need to update basic information submitted on their initial application, such as business name and/or address, annually; 31 insured air carriers will be required to provide one commercial insurance policy to the FAA annually by uploading an electronic image into the FAA's Aviation Insurance Data Management System (AIDMS) annually; and 31 insured air carriers will need to update their Schedule of Aircraft with aircraft registration data adding and removing a total of 550 aircraft to or from AIDMS, annually.

Estimated Average Burden per Response: Initial Application—4 hours; Commercial Policy Submission—10 minutes; Business Information Update—5 minutes; and Aircraft Schedule Update—2 minutes per aircraft.

Estimated Total Annual Burden: 28 hours.

Issued in Washington, DC on June 1, 2018.
Barbara L. Hall,
FAA Information Collection Clearance Officer, Performance, Policy, and Records Management Branch, ASP-110.

[FR Doc. 2018-12296 Filed 6-6-18; 8:45 am]

BILLING CODE 4910-13-P